SMALL BUSINESS ADMINISTRATION

[Declaration of Disaster #3581]

Commonwealth of Pennsylvania

Beaver and Lawrence Counties and the contiguous counties of Alleghany, Butler, Mercer and Washington in the Commonwealth of Pennsylvania; Columbiana, Mahoning, and Trumbull in the State of Ohio; and Hancock County in the State of West Virginia constitute a disaster area as a result of heavy rain, high winds and flooding that occurred from May 18 through May 22, 2004. Applications for loans for physical damage as a result of the disaster may be filed until the close of business on August 2, 2004 and for economic injury until the close of business on March 2, 2005 at the address listed below or other locally announced locations:

Small Business Administration, Disaster Area 1 Office, 360 Rainbow Blvd., South 3rd Floor, Niagara Falls, NY 14303.

The interest rates are:

| Percent
For Physical Damage:
Homeowners with credit available elsewhere | 5.750
Homeowners without credit available elsewhere | 2.875
Businesses with creidt available elsewhere | 5.500
Businesses and non-profit organizations without credit available elsewhere | 2.750
Others (including non-profit organizations) with credit available elsewhere | 4.875
For Economic Injury:
Businesses and small agricultural cooperatives without credit available elsewhere | 2.750

The numbers assigned to this disaster for physical damage are 358111 for Pennsylvania; 358211for Ohio; and 358311 for West Virginia. For economic injury, the numbers are 9ZF700 for Pennsylvania; 9ZF800 for Ohio; and 9ZF900 for West Virginia.

(Catalog of Federal Domestic Assistance Program Nos. 59002 and 59008.)
Dated: June 2, 2004.
Hector V. Barreto,
Administrator.

[FR Doc. 04-12946 Filed 6-7-04; 8:45 am]

BILLING CODE 8025-01-P